DEPARTMENT OF TRANSPORTATION

Federal Aviation Administration

14 CFR Part 39

[Docket No. 2002-NM-298-AD; Amendment 39-14354; AD 2005-22-10]

RIN 2120-AA64

Airworthiness Directives; Airbus Model A320-111 Airplanes, and Model A320-200 Series Airplanes

AGENCY: Federal Aviation Administration, DOT.

ACTION: Final rule.

SUMMARY: This amendment adopts a new airworthiness directive (AD), applicable to certain Airbus Model A320-111 airplanes, and Model A320-200 series airplanes, that requires a detailed inspection of the tail cone triangle to determine its position, and corrective actions if necessary. This action is necessary to prevent excessive vibrations of the elevators, which could result in reduced structural integrity and reduced controllability of the airplane. This action is intended to address the identified unsafe condition.

DATES: Effective December 5, 2005.

The incorporation by reference of a certain publication listed in the regulations is approved by the Director of the Federal Register as of December 5, 2005.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: A proposal to amend part 39 of the Federal Aviation Regulations (14 CFR part 39) to include an airworthiness directive (AD) that is applicable to certain Airbus Model A320 series airplanes was published in the Federal Register on June 18, 2004 (69 FR 34094). That action proposed to require a detailed inspection of the tail cone triangle to determine its position, and corrective actions if necessary.

Comments

Interested persons have been afforded an opportunity to participate in the making of this amendment. Due consideration has been given to the comments received.

Support for the AD

Three commenters support the proposed AD.

Request To Reference Airplane Maintenance Manual (AMM) Task

One commenter requests that we refer to AMM Task 27-34-00-820-003 as the appropriate source of service information for rigging the elevators. The commenter explains that this task, and its associated tool, rigs the elevator neutral setting to 0.5 degree nose-up in accordance with AD 2001-16-09, amendment 39-12377 (66 FR 43471, August 20, 2001). The commenter does not promote the use of the tail cone triangles because they are considered for reference only. The commenter believes that mandating the position of the tail cone reference triangle will have little effect in ensuring the proper rigging of the elevator. The commenter further stresses that if it is absolutely necessary to mandate the rigging of the elevators, then the rigging should be mandated in accordance with AMM Task 27-34-00-820-003, rather than with Airbus Service Bulletin A320-27-1132, Revision 01, dated June 19, 2002, which was referenced in the proposed AD as the appropriate source of service information for accomplishing the required actions.

We infer that the commenter is requesting that we either withdraw the proposed AD or mandate rigging the elevators in accordance with Airbus A320 AMM Task 27-34-00-820-003, rather than inspecting for the position of the tail cone triangles in accordance with the service bulletin. We do not agree with the request to withdraw the proposed AD or with the request to require rigging the elevators in accordance with Airbus A320 AMM Task 27-34-00-820-003 rather than inspecting for the position of the tail cone triangles in accordance with the service bulletin. The service bulletin already requires rigging the elevators in accordance with A320 AMM Task 27-34-00-820-003 if the tail cone triangles are not in the correct position. However, in order to address the possibility that an operator may use AMM Task 27-34-00-820-001 or 27-34-00-820-002, for rigging the elevator using the tail cone triangle, we must ensure that the triangles are in the proper position. As stated in the proposed AD, the tail cone triangles were not installed properly on certain airplanes during production, which could result in mis-rigged elevator servo-controls. Mis-rigged elevator servo controls could result in low hinge moments, and possible vibrations if combined with elevator freeplay. The removal of the tail cone triangles, along with the removal of the AMM tasks that refer to the tail cone triangles may be acceptable as an alternative method of compliance (AMOC) with the AD. Paragraph (d) of the final rule provides for operators' requests for approval of AMOCs. No change to the final rule is necessary.

Request To Give Credit for Earlier Revision of Service Bulletin

Another commenter requests that we change the proposed AD to clarify whether or not actions accomplished before the effective date of the proposed AD in accordance with the original issue of Airbus Service Bulletin A320-27-1132, dated March 14, 2001, are acceptable for compliance with the proposed actions. (Airbus Service Bulletin A320-27-1132, Revision 01, dated June 19, 2002, was referenced as the appropriate source of service information for accomplishing the proposed actions). The commenter points out that Revision 01 of the service bulletin states “No additional work is required by this revision for aircraft modified by any previous issue.”

We agree with the commenter. The existing paragraph (b) in the proposed AD gives credit to operators that have accomplished the actions in accordance with the original issue of the service bulletin. No change to the final rule is necessary.

Explanation of Changes to Applicability

We have revised the applicability of the AD to identify the model designations as published in the most recent type certificate data sheet for the affected model.

Clarification of AMOC Paragraph

We have revised this action to clarify the appropriate procedure for notifying the principal inspector before using any approved AMOC on any airplane to which the AMOC applies.

Conclusion

After careful review of the available data, including the comments noted above, the FAA has determined that air safety and the public interest require the adoption of the rule with the changes described previously. The FAA has determined that these changes will neither increase the economic burden on any operator nor increase the scope of the AD.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the NPRM regarding that material.

Cost Impact

We estimate that 64 airplanes of U.S. registry will be affected by this AD, that it will take approximately 1 work hour per airplane to accomplish the inspection, and that the average labor rate is $65 per work hour. Based on these figures, the cost impact of this AD on U.S. operators is estimated to be $4,160, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2005-22-10 Airbus: Amendment 39-14354. Docket 2002-NM-298-AD.

Applicability: Model A320-111, -211, -212, -214, -231, -232, and -233 airplanes, certificated in any category.

Compliance: Required as indicated, unless accomplished previously.

To prevent excessive vibrations of the elevators, which could result in reduced structural integrity and reduced controllability of the airplane, accomplish the following:

Detailed Inspection and Corrective Action

(a) Within 800 flight hours after the effective date of this AD, perform a detailed inspection to determine the position of each tail cone triangle in accordance with the Accomplishment Instructions of Airbus Service Bulletin A320-27-1132, Revision 01, dated June 19, 2002. If the position of the tail cone triangle is not within the limits specified in the service bulletin: Within 3,500 flight hours after the inspection, re-rig the elevator servo controls to adjust the elevator neutral setting, and change the position of the tail cone triangle, in accordance with the service bulletin.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Actions Accomplished Per Previous Release of the Service Bulletin

(b) Actions accomplished prior to the effective date of this AD in accordance with Airbus Service Bulletin A320-27-1132, dated March 14, 2001, are considered acceptable for compliance with the corresponding actions required by this AD.

No Reporting Requirement

(c) Although the service bulletin specifies to submit certain information to the manufacturer, this AD does not include such a requirement.

Alternative Methods of Compliance

(d)(1) In accordance with 14 CFR 39.19, the Manager, International Branch, ANM-116, Transport Airplane Directorate, FAA, is authorized to approve alternative methods of compliance for this AD.

(2) Before using any AMOC approved in accordance with § 39.19 on any airplane to which the AMOC applies, notify the appropriate principal inspector in the FAA Flight Standards Certificate Holding District Office.

Incorporation by Reference

(e) Unless otherwise specified in this AD, the actions must be done in accordance with Airbus Service Bulletin A320-27-1132, Revision 01, excluding Appendix 01, dated June 19, 2002. This incorporation by reference was approved by the Director of the Federal Register in accordance with 5 U.S.C. 552(a) and 1 CFR part 51. To get copies of this service information, contact Airbus, 1 Rond Point Maurice Bellonte, 31707 Blagnac Cedex, France. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Note 2: The subject of this AD is addressed in French airworthiness directive 2002-514(B) R1, dated November 13, 2002.

Effective Date

(f) This amendment becomes effective on December 5, 2005.

Issued in Renton, Washington, on October 20, 2005.
Kalene C. Yanamura,
Acting Manager, Transport Airplane Directorate, Aircraft Certification Service.

[FR Doc. 05-21427 Filed 10-28-05; 8:45 am]

BILLING CODE 4910-13-P